DEPARTMENT OF ENERGY

Federal Energy Regulatory Commission

Combined Notice of Filings #1

Take notice that the Commission received the following exempt wholesale generator filings:

Docket Numbers: EG22-81-000.

Applicants: WPL Crawfish River Solar, LLC.

Description: Self-Certification of EWG Status of WPL Crawfish River Solar, LLC.

Filed Date: 4/5/22.

Accession Number: 20220405-5112.

Comment Date: 5 p.m. ET 4/26/22.

Docket Numbers: EG22-82-000.

Applicants: WPL Bear Creek Solar, LLC.

Description: Self-Certification of EWG Status of WPL Bear Creek Solar, LLC.

Filed Date: 4/5/22.

Accession Number: 20220405-5113.

Comment Date: 5 p.m. ET 4/26/22.

Docket Numbers: EG22-83-000.

Applicants: WPL Wood County Solar, LLC.

Description: Self-Certification of EWG Status of WPL Wood County Solar, LLC.

Filed Date: 4/5/22.

Accession Number: 20220405-5119.

Comment Date: 5 p.m. ET 4/26/22.

Take notice that the Commission received the following electric rate filings:

Docket Numbers: ER22-1433-000; ER22-1536-000.

Applicants: PJM Interconnection, L.L.C., Borough of Chambersburg, Pennsylvania.

Description: PJM Interconnection, L.L.C. submits an Informational filing to its March 31, 2022 filing of an executed Service Agreement for Network Integration Transmission Service.

Filed Date: 4/1/22.

Accession Number: 20220401-5605.

Comment Date: 5 p.m. ET 4/22/22.

Docket Numbers: ER22-1574-000.

Applicants: WPL Bear Creek Solar, LLC.

Description: Baseline eTariff Filing: WPL Bear Creek Solar MBR Application to be effective 5/15/2022.

Filed Date: 4/5/22.

Accession Number: 20220405-5082.

Comment Date: 5 p.m. ET 4/26/22.

Docket Numbers: ER22-1575-000.

Applicants: WPL Crawfish River Solar, LLC.

Description: Baseline eTariff Filing: WPL Crawfish River Solar MBR Application Filing to be effective 5/15/2022.

Filed Date: 4/5/22.

Accession Number: 20220405-5084.

Comment Date: 5 p.m. ET 4/26/22.

Docket Numbers: ER22-1576-000.

Applicants: WPL North Rock Solar, LLC.

Description: Baseline eTariff Filing: WPL North Rock Solar MBR Application Filing to be effective 5/15/2022.

Filed Date: 4/5/22.

Accession Number: 20220405-5085.

Comment Date: 5 p.m. ET 4/26/22.

Docket Numbers: ER22-1577-000.

Applicants: PacifiCorp.

Description: § 205(d) Rate Filing: UAMPS Agmt Re SSAS Rev 1 to be effective 3/30/2022.

Filed Date: 4/5/22.

Accession Number: 20220405-5088.

Comment Date: 5 p.m. ET 4/26/22.

Docket Numbers: ER22-1578-000.

Applicants: WPL Wood County Solar, LLC.

Description: Baseline eTariff Filing: WPL Wood County Solar MBR Application Filing to be effective 5/15/2022.

Filed Date: 4/5/22.

Accession Number: 20220405-5090.

Comment Date: 5 p.m. ET 4/26/22.

Docket Numbers: ER22-1579-000.

Applicants: Midcontinent Independent System Operator, Inc.

Description: § 205(d) Rate Filing: 2022-04-05_Electric Storage Resources Pre-Implementation Filing to be effective 6/6/2022.

Filed Date: 4/5/22.

Accession Number: 20220405-5100.

Comment Date: 5 p.m. ET 4/26/22.

Docket Numbers: ER22-1581-000.

Applicants: Sun Streams 4, LLC.

Description: Tariff Amendment: Notice of Cancellation to be effective 4/6/2022.

Filed Date: 4/5/22.

Accession Number: 20220405-5128.

Comment Date: 5 p.m. ET 4/26/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2022.
Debbie-Anne A. Reese,
Deputy Secretary.

[FR Doc. 2022-07677 Filed 4-8-22; 8:45 am]

BILLING CODE 6717-01-P